DEPARTMENT OF HEALTH AND HUMAN SERVICES

Health Resources and Services Administration

Agency Information Collection Activities: Proposed Collection: Public Comment Request; Evaluation of the Maternal and Child Health Bureau's Autism CARES Act Initiative

AGENCY: Health Resources and Services Administration, HHS.

ACTION: Notice.

SUMMARY: In compliance with the requirement for opportunity for public comment on proposed data collection projects pursuant to the Paperwork Reduction Act of 1995, the Health Resources and Services Administration (HRSA) announces plans to submit an Information Collection Request (ICR), described below, to the Office of Management and Budget (OMB). Prior to submitting the ICR to OMB, HRSA seeks comments from the public regarding the burden estimate, below, or any other aspect of the ICR.

DATES: Comments on this ICR must be received no later than December 23, 2016.

ADDRESSES: Submit your comments to paperwork@hrsa.gov or mail the HRSA Information Collection Clearance Officer, Room 14N-39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Evaluation of the Maternal and Child Health Bureau's Autism CARES Act Initiative.

OMB No. 0915-0335—Revision

Abstract: In response to the growing need for research and resources devoted to autism spectrum disorder (ASD) and other developmental disabilities (DD), the U.S. Congress passed the Combating Autism Act (CAA) in 2006; reauthorized under the Autism CARES (Collaboration, Accountability, Research, Education, and Support) Act of 2014 (H.R. 4631; Pub L. 113-157). Through Autism CARES, HRSA is tasked with increasing awareness of ASD and other DD, reducing barriers to screening and diagnosis, promoting evidence-based interventions, and training health care professionals in the use of valid and reliable diagnostic tools.

Need and Proposed Use of the Information: The purpose of this information collection is to design and implement an evaluation to assess the effectiveness of MCHB's activities in meeting the goals and objectives of the Autism CARES Act. This ICR is a revision to an existing package; this study is the third evaluation of MCHB's Autism CARES activities and employs similar data collection methodologies to the prior studies. Grantee interviews remain the primary form of data collection, but the research team has made minor adjustments to the data collection processes in order to reduce burden on respondents. Changes include adjusting the interview protocols to improve flow and clarify questions and planning for more than one respondent to attend interviews in instances where the principal investigator requests support.

Likely Respondents: Grantees funded by HRSA under the Autism CARES Act will be the respondents for this data collection activity. The grantees are from these MCHB programs: Leadership Education in Neurodevelopmental Disabilities (LEND) Training Program; Developmental Behavioral Pediatrics (DBP) Training Program; State Implementation Program; State Innovation in Care Integration Program; Research Network Program; Research Program; Interdisciplinary Technical Assistance Center (ITAC); and the State Public Health Autism Center (SPHARC) Resource Center.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Grant program/form name | Number of respondents | Number of responses per respondent | Total responses | Average burden per response (in hours) | Total hour burden
LEND Interview Protocol | 43 | 2 | 86 | 1 | 86
DBP Interview Protocol | 10 | 2 | 20 | 1 | 20
State Implementation Program Interview Protocol | 9 | 2 | 18 | 1 | 18
State Innovation in Care Integration State Grantees | 4 | 1 | 4 | 1 | 4
Research Network Interview Protocol | 5 | 2 | 10 | 1 | 10
Research Program R40 Interview Protocol | 10 | 1 | 10 | 1.5 | 15
Research Network Questionnaire | 5 | 1 | 5 | 1 | 5
Resource Center: ITAC Interview Protocol | 1 | 2 | 2 | 1 | 2
Resource Center: SPHARC Interview Protocol | 1 | 2 | 2 | 1 | 2
Total | 88 |  | 157 |  | 162

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Amy McNulty,
Deputy Director, Division of the Executive Secretariat.

[FR Doc. 2016-25618 Filed 10-21-16; 8:45 am]

BILLING CODE 4165-15-P